DEPARTMENT OF COMMERCE

National Oceanic and Atmospheric Administration

[RTID 0648-XE755]

New England Fishery Management Council; Public Meeting

AGENCY: National Marine Fisheries Service (NMFS), National Oceanic and Atmospheric Administration (NOAA), Commerce.

ACTION: Notice of a public meeting.

SUMMARY: The New England Fishery Management Council (Council) is holding a public meeting of its Scientific and Statistical Committee (SSC) Subpanel via webinar to consider actions affecting New England fisheries in the exclusive economic zone (EEZ). Recommendations from this group will be brought to the full Council for formal consideration and action, if appropriate.

DATES: This meeting will be held on Friday, April 11, 2025, beginning at 1 p.m.

ADDRESSES: Webinar Registration information: https://nefmc-org.zoom.us/meeting/register/UjxVL0CvTGSRAACAgCu0UQ.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

A Scientific and Statistical Committee (SSC) Subpanel will review work led by researchers at the University of Maine, in collaboration with the Maine Department of Marine Resources and the Northeast Fisheries Science Center to evaluate methods for estimating discards of Atlantic cod from the lobster fishery for integration into the Eastern Gulf of Maine (EGOM) Atlantic cod stock assessment. In this review, the subpanel will consider: (1) the methods for quantifying a time series of Atlantic cod discards from the lobster fishery, (2) any modifications of the methods that would be required to incorporate the discard time series into total catch accounting that informs the EGOM cod stock assessment, and (3) any recommendations for improvement of these estimates in the future. This technical review follows the Council's Research Review Policy, consistent with National Standard 2 Guidelines.

Other business will be discussed, as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at (978) 465-0492, at least 5 days prior to the meeting date.

Authority: 16 U.S.C. 1801 et seq.

Dated: March 12, 2025.
Rey Israel Marquez,
Acting Deputy Director, Office of Sustainable Fisheries, National Marine Fisheries Service.

[FR Doc. 2025-04281 Filed 3-14-25; 8:45 am]

BILLING CODE 3510-22-P